DEPARTMENT OF LABOR

Employment and Training Administration

[TA-W-53,153]

Metal Process Assistance, Norwich, CT; Notice of Termination of Investigation

Pursuant to section 221 of the Trade Act of 1974, as amended, an investigation was initiated on October 6, 2003 in response to a petition filed by a company official on behalf of workers at Metal Process Assistance, Norwich, Connecticut.

The petitioner has requested that the petition be withdrawn. Consequently, the investigation has been terminated.

Signed at Washington, DC, this 12th day of November, 2003.
Linda G. Poole,
Certifying Officer, Division of Trade Adjustment Assistance.

[FR Doc. 03-29949 Filed 12-1-03; 8:45 am]

BILLING CODE 4510-30-P